DEPARTMENT OF THE INTERIOR

National Park Service

[NPS-WASO-NAGPRA-NPS0030989; PPWOCRADN0-PCU00RP14.R50000]

Notice of Inventory Completion: University of California Berkeley, Berkeley, CA

AGENCY: National Park Service, Interior.

ACTION: Notice.

SUMMARY: The University of California Berkeley has completed an inventory of human remains in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of California Berkeley. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of California Berkeley at the address in this notice by November 16, 2020.

ADDRESSES: Dr. Thomas Torma, NAGPRA Liaison, Office of the Vice Chancellor for Research, University of California Berkeley, 119 California Hall, Berkeley, CA 94720-1500, telephone (510) 672-5388, email t.torma@berkeley.edu.

SUPPLEMENTARY INFORMATION: Notice is here given in accordance with the Native American Graves Protection and Repatriation Act (NAGPRA), 25 U.S.C. 3003, of the completion of an inventory of human remains under the control of the University of California Berkeley, Berkeley, CA. The human remains were removed from Marin County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of California Berkeley professional staff in consultation with representatives of the Federated Indians of Graton Rancheria, California.

History and Description of the Remains

In November 1938, human remains representing, at minimum, one individual were removed from a shell mound near the Point Reyes Coast Guard Station in Marin County, CA, by Lloyd Travis Jr., a well-known biologist. The human remains were put in the collection of Milton Hildebrand, a graduate student at the University of California Berkeley's Museum of Vertebrate Zoology in the 1940's. When Hildebrand went to the University of California Davis to teach in the Zoology Department, he created his own teaching collection for comparative anatomy. In the 1980's, after he retired, Hildebrand gave his collection to the Museum of Vertebrate Zoology. No known individuals were identified. No associated funerary objects are present.

Determinations Made by the University of California Berkeley

Officials of the University of California Berkeley have determined that:

• Pursuant to 25 U.S.C. 3001(9), the human remains described in this notice represent the physical remains of one individual of Native American ancestry.

• Pursuant to 25 U.S.C. 3001(2), there is a relationship of shared group identity that can be reasonably traced between the Native American human remains and the Federated Indians of Graton Rancheria, California.

Additional Requestors and Disposition

Lineal descendants or representatives of any Indian Tribe or Native Hawaiian organization not identified in this notice that wish to request transfer of control of these human remains should submit a written request with information in support of the request to Dr. Thomas Torma, NAGPRA Liaison, Office of the Vice Chancellor for Research, University of California Berkeley, 119 California Hall, Berkeley, CA 94720-1500, telephone (510) 672-5388, email t.torma@berkeley.edu, by November 16, 2020. After that date, if no additional requestors have come forward, transfer of control of the human remains to the Federated Tribes of Graton Rancheria, California may proceed.

The University of California Berkeley is responsible for notifying the Federated Indians of Graton Rancheria, California that this notice has been published.

Dated: September 28, 2020.
Melanie O'Brien,
Manager, National NAGPRA Program.

[FR Doc. 2020-22919 Filed 10-15-20; 8:45 am]

BILLING CODE 4312-52-P